LEGAL SERVICES CORPORATION

Request for Comments—LSC Budget Request for FY 2010

AGENCY: Legal Services Corporation.

ACTION: Request for Comments—LSC Budget Request for FY 2010.

SUMMARY: The Legal Services Corporation is beginning the process of developing its FY 2010 budget request to Congress and is soliciting suggestions as to what the request should be.

DATES: Written comments must be received on or before September 15, 2008.

ADDRESSES: Written comments may be submitted by mail, fax or e-mail to Charles Jeffress, Chief Administrative Officer, Legal Services Corporation, 3333 K St., NW., Washington, DC, 20007; 202-295-1630 (phone); 202-337-6386 (fax); cjeffress@lsc.gov.

FOR FURTHER INFORMATION CONTACT: Charles Jeffress, Chief Administrative Officer, Legal Services Corporation, 3333 K St., NW., Washington, DC, 20007; 202-295-1630 (phone); 202-337-6386 (fax); cjeffress@lsc.gov.

SUPPLEMENTARY INFORMATION:

The Legal Services Corporation's (LSC) mission is to promote equal access to justice in our Nation and to provide for high-quality civil legal assistance to low income persons. LSC submits an annual budget request directly to Congress and receives an annual direct appropriation to carry out its mission. For the current fiscal year (FY 2008), LSC received an appropriation of $350,490.000 of which $332,390,000 was for basic field programs and required independent audits; $3,000,000 was for the Office of Inspector General; $12,500,000 was for management and administration; $2,100,00 was for technology initiative grants; and $500,000 was for loan repayment assistance. Pub. L. 110-161, 121 Stat. 1844 (2007).

As part of its annual budget and appropriation process, the Finance Committee of the LSC Board of Directors will meet on October 14, 2008, to make a recommendation to the full Board. Accordingly, LSC is currently in the process of formulating its FY 2010 budget request.

LSC invites public comment on what its FY 2010 budget request should be. Interested parties may submit comments to LSC by September 15, 2008. More information about LSC can be found at LSC's Web site: http://www.lsc.gov.

Dated: August 19, 2008.
Victor M. Fortuno,
Vice President & General Counsel.

[FR Doc. E8-19602 Filed 8-22-08; 8:45 am]

BILLING CODE 7050-01-P